FEDERAL MARITIME COMMISSION

Ocean Transportation Intermediary License; Reissuance of License

Notice is hereby given that the following Ocean Transportation Intermediary license has been reissued by the Federal Maritime Commission pursuant to section 19 of the Shipping Act of 1984, as amended by OSRA 1998 (46 U.S.C. app. 1718) and the regulations of the Commission pertaining to the licensing of Ocean Transportation Intermediaries, 46 CFR 515.

LICENSE NO. | NAME/ADDRESS | DATE REISSUED
4532F | Florida International Forwarders, Inc., 10302 NW, South River Drive, Bay 18, Miami, FL 33178 | July 16, 2000.

Sandra L. Kusumoto,
Director, Bureau of Consumer Complaints and Licensing.

[FR Doc. 00-24191 Filed 9-19-00; 8:45 am]

BILLING CODE 6730-01-P